FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 962. Interested parties may submit comments on an agreement to the Secretary, Federal Maritime Commission, Washington, DC 20573, within 10 days of the date this notice appears in the Federal Register.

Agreement No.: 011560-002.

Title: The TransAtlantic Bridge Agreement.

Parties:

The COSCO/KL TransAtlantic Vessel Sharing Agreement (FMC Agreement No. 011561)

The KL/YM TransAtlantic Vessel Sharing Agreement (FMC Agreement No. 011562)

Synopsis: The proposed amendment would extend the term of the Agreement through October 31, 2001.

Agreement No.: 011561-002.

Title: The COSCO/KL TransAtlantic Vessel Sharing Agreement.

Parties:

China Ocean Shipping (Group) Company

Kawasaki Kisen Kaisha, Ltd.

Synopsis: The proposed amendment would extend the term of the Agreement through October 31, 2001.

Agreement No.: 011562-003.

Title: The KL/YM TransAtlantic Vessel Sharing Agreement.

Parties:

Kawasaki Kisen Kaisha, Ltd.

Yang Ming Transportation Corporation.

Synopsis: The proposed amendment would extend the term of the Agreement through October 31, 2001.

Agreement No.: 011724.

Title: Maersk Sealand/CMA-CGM Pacific Slot Charter Agreement.

Parties:

A.P. Moller-Maersk Sealand (“MSL”)

CMA-CGM S.A. (“CMA-CGM”).

Synopsis: The proposed agreement authorizes MSL to charter space on its vessels to CMA-CGM in the trade between Long Beach, California and ports in China, Taiwan, and South Korea. The agreement will expire on May 1, 2001, unless earlier terminated.

Agreement No.: 201107.

Title: Cooper/T. Smith Stevedoring Company, Inc., Stevedoring Services of America, Inc. and CSA Equipment Company, LLC, Joint Terminal Services Agreement.

Parties:

Cooper/T. Smith Stevedoring Company, Inc.

Stevedoring Services of America, Inc.

CSA Equipment Company, LLC.

Synopsis: The agreement provides for the establishment of a joint venture that will provide terminal services at state docks in Alabama. The agreement will remain in effect until terminated by the parties.

By Order of the Federal Maritime Commission.
Dated: September 22, 2000.
Bryant VanBrakle,
Secretary.

[FR Doc. 00-24809 Filed 9-26-00; 8:45 am]

BILLING CODE 6730-01-P